DEPARTMENT OF COMMERCE

National Oceanic and Atmospheric Administration

XRIN: 0648-XB35

Gulf of Mexico Fishery Management Council; Public Meeting

AGENCY: National Marine Fisheries Service (NMFS), National Oceanic and Atmospheric Administration (NOAA), Commerce.

ACTION: Notice of Closed Session SEDAR (Southeast Data and Review) Selection Committee Conference Call.

SUMMARY: The Gulf of Mexico Fishery Management Council (Council) will convene its SEDAR Selection Committee via Conference Call to select appointees to the SEDAR 16 King Mackerel workshops for recommendation to the Council.

DATES: The Conference Call will be held on Wednesday, July 25, 2007, from 2 p.m. EDT to 3 p.m. EDT.

ADDRESSES: The meeting will be held via Closed Session conference call.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council (Council) will convene its SEDAR Selection Committee via Conference Call to select appointees to the SEDAR 16 King Mackerel workshops for recommendation to the Council in a closed session conference call on Wednesday, July 25, 2007 at 2 p.m. EDT. The Committee recommendations will be presented to the Council at the July 30 - August 2, 2007 Council meeting in San Antonio, TX.

Special Accommodations

This meeting is physically accessible to people with disabilities. Requests for sign language interpretation or other auxiliary aids should be directed to Tina Trezza at the Council (see ADDRESSES) at least 5 working days prior to the meeting.

Dated: July 9, 2007.
Tracey L. Thompson,
Acting Director, Office of Sustainable Fisheries, National Marine Fisheries Service.

[FR Doc. E7-13531 Filed 7-11-07; 8:45 am]

BILLING CODE 3510-22-S